DEPARTMENT OF COMMERCE

National Oceanic and Atmospheric Administration

[RTID 0648-XX026]

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit renewal application from the Commercial Fisheries Research Foundation contains all of the required information and warrants further consideration. This permit would facilitate research on the abundance and distribution of juvenile American lobster and Jonah crab along the northwest Atlantic coast.

Regulations under the Magnuson-Stevens Fishery Conservation and Management Act and the Atlantic Coastal Fisheries Cooperative Management Act require publication of this notice to provide interested parties the opportunity to comment on applications for proposed Exempted Fishing Permits.

DATES: Comments must be received on or before November 20, 2019.

ADDRESSES: You may submit written comments by any of the following methods:

• Email: NMFS.GAR.EFP@noaa.gov. Include in the subject line “Comments on CFRF Lobster Study Fleet EFP.”

• Mail: Michael Pentony, Regional Administrator, NMFS, Greater Atlantic Regional Fisheries Office, 55 Great Republic Drive, Gloucester, MA 01930. Mark the outside of the envelope “Comments on CFRF Lobster Study Fleet EFP.”

FOR FURTHER INFORMATION CONTACT: Laura Hansen, Fishery Management Specialist, 978-281-9225, Laura.Hansen@noaa.gov.

SUPPLEMENTARY INFORMATION: The Commercial Fisheries Research Foundation (CFRF) submitted a complete application to renew an existing Exempted Fishing Permit (EFP) on October 1, 2019, to conduct fishing activities that the regulations would otherwise restrict. The EFP would authorize 20 vessels to continue a study using ventless lobster traps to survey the abundance and distribution of juvenile American lobster and Jonah crab in regions and times of year not covered by traditional surveys. This EFP proposes to use 60 ventless lobster traps throughout Lobster Conservation Management Areas (LCMA) 1, 2, 3, 4, and 5. Maps of these areas are available at: https://www.fisheries.noaa.gov/resource/map/lobster-management-areas. The study would inform management by addressing questions of changing reproduction and recruitment dynamics of lobster, and developing a foundation of knowledge for the data poor Jonah crab fishery.

Funding for this study is through the Campbell Foundation and the Saltonstall-Kennedy Grant Program (Grant # NA17NMF4270208). For this project, CFRF is requesting exemptions from the following Federal lobster regulations:

1. Gear specification requirements in 50 CFR 697.21(c) to allow for closed escape vents and smaller trap mesh and entrance heads;

2. Trap limit requirements, as listed in § 697.19, for LCMA 1, 2, 3, 4 and 5, to be exceeded by 3 additional traps per fishing vessel for a total of 60 additional traps;

3. Trap tag requirements, as specified in § 697.19(j), to allow for the use of untagged traps (though each experimental trap will have the participating fisherman's identification attached); and

4. Possession restrictions in §§ 697.20(a), 697.20(d), and 697.20(g) to allow for temporary possession of juvenile, v-notched, and egg-bearing lobsters for onboard biological sampling.

If the EFP is approved, this research would take place during the regular fishing activity of the participating vessels: 6 “inshore” vessels in LCMA 2 and 14 “offshore” vessels in LCMAs 1, 3, 4, and 5. Experimental traps will be attached to a standard, Atlantic Large Whale Take Reduction Plan-compliant trap trawl. Modifications to conventional lobster traps include closed escape vents, single parlors, and smaller mesh sizes and entrance heads, to allow for the capture of juvenile lobsters and Jonah crabs. Sampling would occur weekly in LCMA 2, and every 10 days in the other areas.

All lobster and Jonah crabs caught in the experimental traps would be counted, sexed, and measured. Biological information including shell hardness and presence of eggs would also be recorded. All species captured in study traps would be returned promptly to the sea after sampling. All data collected would be made available to state and Federal management agencies to improve and enhance the available data for these two crustacean species.

We anticipate that the final rulemaking to implement Jonah crab Federal regulations will occur during the proposed study period. To ensure that there is no disruption to research activities, we would modify exemptions granted to this study, should they be approved, to include exemption from the possession of undersized and egg-bearing Jonah crabs. We have solicited comment on this expansion in the Jonah Crab Fishery Management Plan rulemaking process.

If approved, the applicant may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: October 31, 2019.
Ngagne Jafnar Gueye,
Acting Director, Office of Sustainable Fisheries, National Marine Fisheries Service.

[FR Doc. 2019-24120 Filed 11-4-19; 8:45 am]

BILLING CODE 3510-22-P